DEPARTMENT OF LABOR

Office of Workers' Compensation Programs

[OMB Control No. 1240-0001]

Proposed Extension of Information Collection; Statement of Recovery

AGENCY: Division of Federal Employees' Longshore and Harbor Workers' Compensation (OWCP/DFELHWC), Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the Office of Workers' Compensation Programs, Division of Federal Employees' Longshore and Harbor Workers' Compensation, (OWCP/DFELHWC) is soliciting comments on the information collection for the Statement of Recovery, CA-1122 Short form, and for the Statement of Recovery, CA-1108 Long Form.

DATES: All comments must be received on or before November 4, 2024.

ADDRESSES: You may submit comment as follows. Please note that late, untimely filed comments will not be considered.

Electronic Submissions: Submit electronic comments in the following way:

• Federal eRulemaking Portal: https://www.regulations.gov. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP/DFELHWC, Office of Workers' Compensation Programs, Division of Federal Employees' Longshore and Harbor Workers' Compensation, U.S. Department of Labor, 200 Constitution Ave. NW, Room S-3323, Washington, DC 20210.

• OWCP/DFELHWC will post your comment as well as any attachments, except for information submitted and marked as confidential, in the docket at https://www.regulations.gov.

FOR FURTHER INFORMATION CONTACT: Anjanette Suggs, Office of Workers' Compensation Programs, Division of Federal Employees' Longshore, and Harbor Workers' Compensation, OWCP/DFELHWC, at suggs.anjanette@dol.gov @dol.gov (email); (202) 354-9660.

SUPPLEMENTARY INFORMATION:

I. Background

The Division of Federal Employees', Longshore and Harbor Workers' Compensation (DFELHWC) administers the Federal Employees' Compensation Act (FECA). A Federal employee who sustains a work-related injury is entitled to receive compensation under the FECA. If that injury is caused under circumstances that create a legal liability in a third party to pay damages, the FECA authorizes the Secretary of Labor to require the employee to assign his or her right of action to the United States or prosecute the action in his or her own name. See 5 U.S.C. 8131.

After identifying third-party claims through the claims process, OWCP refers them to the Solicitor of Labor (SOL). SOL initiates Forms CA-1108 and CA-1122 to determine the amount of the refund due to the United States out of the proceeds of an action asserted by an injured Federal employee against a liable third party for a compensable injury.

An injured federal employee who receives money or property from a judgment or a settlement of the action must reimburse the United States for past compensation payments. See 5 U.S.C. 8132. The formula in section 8132 of the FECA must be used to calculate the reimbursement. Section 8132 states that “the beneficiary, after deducting therefrom the costs of suit and a reasonable attorney's fee, shall refund to the United States the amount of compensation paid by the United States and credit any surplus on future payments of compensation payable to him for the same injury.” Therefore, to calculate the amount of the refund due, employees must provide the amount of the settlement they received, the amount of the costs of the suit, and the fees charged by the attorney.

If the amount of the employee's recovery remaining after certain deductions specified in the statute exceeds the amount of OWCP's disbursements, the surplus must be credited against future payments of compensation, because the FECA mandates that the employee “shall refund to the United States the amount of compensation paid by the United States and credit any surplus on future payments of compensation.” 5 U.S.C. 8132.

To enforce the United States' statutory right to reimbursement, the Office of Workers' Compensation Programs (OWCP) has promulgated regulations. The regulations require a FECA beneficiary to report these types of payments (20 CFR 10.710) and submit the detailed information necessary to calculate the amount of the refund and surplus, if any, according to the formula in the statute. (20 CFR 10.707(e)).

The information collected by Form CA-1108 and Form CA-1122 from the FECA beneficiary includes this information and is necessary to calculate the amount of the refund and surplus owed to the United States from the FECA beneficiary's settlement or judgment, as required in the statute and the regulations.

See: http://www.dol.gov/owcp/dfec/regs/statutes/feca.htm#8131, http://www.dol.gov/owcp/dfec/regs/statutes/feca.htm#8132, https://www.ecfr.gov/cgi-bin/text-idx?c=ecfr&SID=c131552afa82be329e42e2c9d62a41c8&rgn=div5&view=text&node=20:1.0.1.2.2&idno=20#se20.1.10_1707.

II. Desired Focus of Comments

OWCP/DFELHWC is soliciting comments concerning the proposed information collection related to the Statement of Recovery. OWCP/DFELHWC is particularly interested in comments that:

• Evaluate whether the collection of information is necessary for the proper performance of the functions of the Agency, including whether the information has practical utility;

• Evaluate the accuracy of OWCP/DFELHWC's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology, e.g., permitting electronic submission of responses.

Background documents related to this information collection request are available at https://regulations.gov and at DOL-OWCP/DFELHWC located at 200 Constitution Ave. NW, Room S-3323, Washington, DC 20210. Questions about the information collection requirements may be directed to the person listed in the FOR FURTHER INFORMATION CONTACT section of this notice.

III. Current Actions

This information collection request concerns the Statement of Recovery, Long Form CA-1108 and Short Form CA-1122. OWCP/DFELHWC has updated the data with respect to the number of respondents, responses, burden hours, and burden costs supporting this information collection request from the previous information collection request.

Type of Review: Extension, without change, of a currently approved collection.

Agency: Office of Workers' Compensation Programs, Division of Federal Employees' Longshore, and Harbor Workers' Compensation, OWCP/DFELHWC.

OMB Number: 1240-0001.

Affected Public: Private Sector—Business or other For-profits.

Number of Respondents: 1,392.

Frequency: On Occasion.

Number of Responses: 1,392.

Annual Burden Hours: 640 hours.

Annual Respondent or Recordkeeper Cost: $32.00.

OWCP/DFELHWC 1240-0001: OWCP/DFELHWC Statement of Recovery Forms.

Comments submitted in response to this notice will be summarized in the request for Office of Management and Budget approval of the proposed information collection request; they will become a matter of public record and will be available at https://www.reginfo.gov.

Anjanette Suggs,
Certifying Officer.

[FR Doc. 2024-19860 Filed 9-4-24; 8:45 am]

BILLING CODE 4510-CH-P